DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The Specially Designated Nationals and Blocked Persons List (SDN List) and additional information concerning OFAC sanctions programs are available on OFAC's website (https://www.treasury.gov/ofac).

Notice of OFAC Actions

On May 17, 2019, OFAC determined that the property and interests in property subject to U.S. jurisdiction of the following persons are blocked under the relevant sanctions authority listed below.

Individuals

1. AVELAR GUTIERREZ, Isidro, Islas Aleutianas 2307, Guadalajara, Jalisco 44540, Mexico; Santa Esther 845, Colonia Santa Margarita, Primera Seccion, Zapopan, Jalisco, Mexico; DOB 13 Jun 1962; POB Jalisco, Mexico; nationality Mexico; Gender Male; C.U.R.P. AEGI620613HJCVTS05 (Mexico) (individual) [SDNTK]. Designated pursuant to section 805(b)(3) of the Foreign Narcotics Kingpin Designation Act (“Kingpin Act”), 21 U.S.C. 1904(b)(3), for being directed by, or acting for or on behalf of, the CARTEL DE JALISCO NUEVA GENERACION and LOS CUINIS, foreign persons designated pursuant to the Kingpin Act.

2. BARAJAS SAHD, Ana Paulina (a.k.a. SAHD, Paulina), Calle Alcamo 2870-501, Colonia Providencia, Guadalajara, Jalisco, Mexico; Kukulkan 4783, Col. Miradora Del Sol, Zapopan, Jalisco 45054, Mexico; Perla # 3880, Colonia Res. Loma Bonita, Zapopan, Jalisco, Mexico; DOB 03 Oct 1984; POB Jalisco, Mexico; nationality Mexico; Gender Female; C.U.R.P. BASA841003MJCRHN07 (Mexico) (individual) [SDNTK]. Designated pursuant to section 805(b)(3) of the Kingpin Act, 21 U.S.C. 1904(b)(3), for being directed by, or acting for or on behalf of, Ulises Jovani GONZALEZ VALENCIA, a foreign person designated pursuant to the Kingpin Act.

3. BELTRAN GARCIA, Victor Francisco, Guadalajara, Jalisco, Mexico; DOB 07 May 1972; POB Jalisco, Mexico; nationality Mexico; Gender Male; C.U.R.P. BEGV720507HJCLRC02 (Mexico) (individual) [SDNTK]. Designated pursuant to section 805(b)(3) of the Kingpin Act, 21 U.S.C. 1904(b)(3), for being directed by, or acting for or on behalf of, the CARTEL DE JALISCO NUEVA GENERACION, LOS CUINIS, and Nemesio OSEGUERA CERVANTES, foreign persons designated pursuant to the Kingpin Act.

4. GONZALEZ VALENCIA, Erika, Guadalajara, Jalisco, Mexico; DOB 22 Jun 1974; POB Michoacan de Ocampo, Mexico; nationality Mexico; Gender Female; C.U.R.P. GOVE740622MMNNLR00 (Mexico) (individual) [SDNTK]. Designated pursuant to section 805(b)(2) of the Kingpin Act, 21 U.S.C. 1904(b)(2), for materially assisting in, or providing financial support for or to, or providing goods or services in support of, the international narcotics trafficking activities of LOS CUINIS and the CARTEL DE JALISCO NUEVA GENERACION, foreign persons designated pursuant to the Kingpin Act; Designated pursuant to section 805(b)(3) of the Kingpin Act, 21 U.S.C. 1904(b)(3), for being directed by, or acting for or on behalf of, LOS CUINIS and the CARTEL DE JALISCO NUEVA GENERACION, foreign persons designated pursuant to the Kingpin Act.

5. GONZALEZ VALENCIA, Ulises Jovani, Calle Alcamo 2870-501, Colonia Providencia, Guadalajara, Jalisco, Mexico; Calle Herradura Numero 4825, Colonia Mirador Del Sol, Zapopan, Jalisco, Mexico; DOB 31 May 1986; POB Michoacan de Ocampo, Mexico; nationality Mexico; Gender Male; C.U.R.P. GOVU860531HMNNLL06 (Mexico) (individual) [SDNTK]. Designated pursuant to section 805(b)(2) of the Kingpin Act, 21 U.S.C. 1904(b)(2), for materially assisting in, or providing financial support for or to, or providing goods or services in support of, the international narcotics trafficking activities of LOS CUINIS and the CARTEL DE JALISCO NUEVA GENERACION, foreign persons designated pursuant to the Kingpin Act; Designated pursuant to section 805(b)(3) of the Kingpin Act, 21 U.S.C. 1904(b)(3), for being directed by, or acting for or on behalf of, LOS CUINIS and the CARTEL DE JALISCO NUEVA GENERACION, foreign persons designated pursuant to the Kingpin Act.

6. MENDOZA GAYTAN, Gonzalo (a.k.a. MENDOZA GAYTAN, Hugo Gonzalo; a.k.a. “El Sapo”), Puerto Vallarta, Jalisco, Mexico; DOB 02 Oct 1988; POB Michoacan de Ocampo, Mexico; nationality Mexico; Gender Male; C.U.R.P. MEGG881002HMNNYN02 (Mexico) (individual) [SDNTK]. Designated pursuant to section 805(b)(2) of the Kingpin Act, 21 U.S.C. 1904(b)(2), for materially assisting in, or providing financial support for or to, or providing goods or services in support of, the international narcotics trafficking activities of the CARTEL DE JALISCO NUEVA GENERACION, a foreign person designated pursuant to the Kingpin Act; Designated pursuant to section 805(b)(3) of the Kingpin Act, 21 U.S.C. 1904(b)(3), for being directed by, or acting for or on behalf of, the CARTEL DE JALISCO NUEVA GENERACION, a foreign person designated pursuant to the Kingpin Act.

7. ROSAS CAMBA, Liliana, Jamaica Numero 1411, Colonia Cinco de Diciembre, Puerto Vallarta, Jalisco, Mexico; DOB 20 May 1992; POB Jalisco, Mexico; nationality Mexico; Gender Female; C.U.R.P. ROCL920520MJCSML00 (Mexico) (individual) [SDNTK]. Designated pursuant to section 805(b)(2) of the Kingpin Act, 21 U.S.C. 1904(b)(2), for materially assisting in, or providing financial support for or to, or providing goods or services in support of, the international narcotics trafficking activities of Gonzalo MENDOZA GAYTAN and the CARTEL DE JALISCO NUEVA GENERACION, foreign persons designated pursuant to the Kingpin Act; Designated pursuant to section 805(b)(3) of the Kingpin Act, 21 U.S.C. 1904(b)(3), for being directed by, or acting for or on behalf of, Gonzalo MENDOZA GAYTAN and the CARTEL DE JALISCO NUEVA GENERACION, foreign persons designated pursuant to the Kingpin Act.

Entities

1. A&A ESTUDIO ARQUITECTONICO, S. DE R.L. DE C.V. (a.k.a. AA ESTUDIO ARQUITECTONICO), Privada Juan Martin 537, Zapopan, Jalisco CP 45138, Mexico; website www.aaestudioarquitectonico.com; Folio Mercantil No. 77083 (Mexico) [SDNTK]. Designated pursuant to section 805(b)(3) of the Kingpin Act, 21 U.S.C. 1904(b)(3), for being owned, controlled, or directed by, or acting for or on behalf of, Isidro AVELAR GUTIERREZ, a foreign person designated pursuant to the Kingpin Act.

2. ARQUITECTURA Y DISENO EN BALANCE, S.A. DE C.V. (a.k.a. ADB ARQUITECTOS Y INMOBILIARIA; a.k.a. ADB INMOBILIARIA), Pegaso 3261, Colonia La Calma, Zapopan, Jalisco, Mexico; R.F.C. ADB130606VA4 (Mexico) [SDNTK]. Designated pursuant to section 805(b)(3) of the Kingpin Act, 21 U.S.C. 1904(b)(3), for being owned, controlled, or directed by, or acting for or on behalf of, Ulises Jovani GONZALEZ VALENCIA, a foreign person designated pursuant to the Kingpin Act.

3. G Y R ARQUITECTOS, S. DE R.L. DE C.V. (a.k.a. GR ARQUITECTOS), Kukulkan 4783, Col. Mirador del Sol, Zapopan, Jalisco, Mexico; website www.grarquitectos.mx; Folio Mercantil No. 41884 (Mexico) [SDNTK]. Designated pursuant to section 805(b)(3) of the Kingpin Act, 21 U.S.C. 1904(b)(3), for being owned, controlled, or directed by, or acting for or on behalf of, Ulises Jovani GONZALEZ VALENCIA, a foreign person designated pursuant to the Kingpin Act.

4. GRANATURA, S. DE P.R. DE R.L. DE C.V., Guadalajara, Jalisco, Mexico; Folio Mercantil No. 81689 (Mexico) [SDNTK]. Designated pursuant to section 805(b)(3) of the Kingpin Act, 21 U.S.C. 1904(b)(3), for being owned, controlled, or directed by, or acting for or on behalf of, Ana Paulina BARAJAS SAHD, a foreign person designated pursuant to the Kingpin Act.

5. JAFIELA BOUTIQUE, S.A. DE C.V. (a.k.a. LUSH STYLE; a.k.a. LUSH STYLE BOUTIQUE), Av. Naciones Unidas 5131 Local 3, Colonia Jardines Universidad, Zapopan, Jalisco, Mexico; Plaza Punto Rio, Blvd. Enrique Sanchez Alonso #1980 Local 7, Desarrollo Tres Rios, Culiacan, Sinaloa, Mexico; Folio Mercantil No. 95562 (Mexico) [SDNTK]. Designated pursuant to section 805(b)(3) of the Kingpin Act, 21 U.S.C. 1904(b)(3), for being owned, controlled, or directed by, or acting for or on behalf of, Liliana ROSAS CAMBA, a foreign person designated pursuant to the Kingpin Act.

6. OPERADORA RESTAURANTERA DEL SOL NACIENTE, S. DE R.L. DE C.V., Calle Kukulcan No. Ext.4783, Col. Mirador del Sol, Zapopan, Jalisco C.P. 45054, Mexico; R.F.C. ORS120904BL2 (Mexico) [SDNTK]. Designated pursuant to section 805(b)(3) of the Kingpin Act, 21 U.S.C. 1904(b)(3), for being owned, controlled, or directed by, or acting for or on behalf of, Ulises Jovani GONZALEZ VALENCIA, a foreign person designated pursuant to the Kingpin Act.

Dated: May 17, 2019.
Andrea M. Gacki,
Director, Office of Foreign Assets Control.

[FR Doc. 2019-10674 Filed 5-21-19; 8:45 am]

BILLING CODE 4810-AL-P